DEPARTMENT OF COMMERCE

National Oceanic and Atmospheric Administration

RIN: 0648-XO58

Pacific Fishery Management Council; Public Meeting

AGENCY: National Marine Fisheries Service (NMFS), National Oceanic and Atmospheric Administration (NOAA), Commerce.

ACTION: Notice of a public meeting.

SUMMARY: The Pacific Fishery Management Council's (Council) Groundfish Allocation Committee (GAC) will hold a working meeting, which is open to the public.

DATES: The GAC meeting will be held Tuesday, May 5, 2009, from 8:30 a.m. until business for the day is completed. The GAC will reconvene on Wednesday, May 6 and Thursday, May 7, 2009, at 8:30 a.m. each day until their business is completed.

ADDRESSES: The GAC meeting will be held at the Shilo Inn Portland Airport, Willamette I and II Room, 11707 NE Airport Way, Portland, OR 97220; telephone: (503) 252-5800.

Council address: Pacific Fishery Management Council, 7700 NE Ambassador Place, Suite 101, Portland, OR 97220-1384.

FOR FURTHER INFORMATION CONTACT: Mr. Merrick Burden, Groundfish Staff Officer; telephone: (503) 820-2280.

SUPPLEMENTARY INFORMATION: The purpose of the GAC meeting is to consider options for an adaptive management program within a rationalized non-whiting limited entry trawl sector; vessel and control limits for groundfish and Pacific halibut individual fishing quotas in a rationalized shoreside trawl sector; options for Community Fishing Associations within a rationalized shoreside trawl sector; Fishery Management Plan amendment language to implement the provisions of a west coast groundfish trawl rationalization program; and other miscellaneous items of clarification regarding the implementation of a west coast groundfish trawl rationalization program. No management actions will be decided by the GAC. The GAC's role will be development of recommendations for these five initiatives. The GAC recommendations will be provided for consideration by the Council at its June 2009 meeting in Spokane, WA.

Although non-emergency issues not contained in the meeting agenda may come before the GAC for discussion, those issues may not be the subject of formal GAC action during this meeting. GAC action will be restricted to those issues specifically listed in this notice and any issues arising after publication of this notice that require emergency action under Section 305(c) of the Magnuson-Stevens Fishery Conservation and Management Act, provided the public has been notified of the GAC's intent to take final action to address the emergency.

Special Accommodations

This meeting is physically accessible to people with disabilities. Requests for sign language interpretation or other auxiliary aids should be directed to Ms. Carolyn Porter at (503) 820-2280 at least 5 days prior to the meeting date.

Dated: April 6, 2009.
Tracey L. Thompson,
Acting Director, Office of Sustainable Fisheries, National Marine Fisheries Service.

[FR Doc. E9-8144 Filed 4-9-09; 8:45 am]

BILLING CODE 3510-22-S